DEPARTMENT OF HEALTH AND HUMAN SERVICES

Centers for Disease Control and Prevention

National Center on Birth Defects and Developmental Disabilities; Meeting

Name: Newborn Screening for Cystic Fibrosis (CF).

Times and Dates: 8 a.m.-5:30 p.m., November 20, 2003. 7:50 a.m.-4 p.m., November 21, 2003.

Place: Renaissance Atlanta Hotel Downtown, 590 West Peachtree Street NW., Atlanta, Georgia 30308-3586, Telephone (404) 881-6000.

Status: Open to the public, limited only by the space available.

Purpose: The meeting will review the recommendations from the 1997 Newborn Screening for Cystic Fibrosis: A Paradigm for Public Health Genetics Policy Workshop, and will evaluate the current evidence examining the benefits and risks of screening newborns for CF. In addition, the meeting will review the role of screening, diagnostics, and follow-up issues in CF newborn screening decision-making.

Matters to be Discussed: The agenda will include an overview of newborn screening; the role of evidence based decision-making; the epidemiology and natural history of the disease; a review of the published and unpublished literature assessing the risks and benefits of screening newborns for CF; discussion about grading the evidence; weighting risks and benefits; planning challenges; screening issues; informed consent; diagnostics and sweat testing referrals, linking screening programs with CF centers for care of diagnosed infants; implications for state programs considering screening; communication; costs; and the evidence to support a public health response to CF newborn screening.

Agenda items are subject to change as priorities dictate.

FOR FURTHER INFORMATION CONTACT: Scott Grosse, Ph.D., National Center on Birth Defects and Developmental Disabilities, CDC, 1600 Clifton Road, NE, m/s E-87, Atlanta, Georgia 30333, telephone 404/498-3074.

The Director, Management Analysis and Services office, has been delegated the authority to sign Federal Register notices pertaining to announcements of meetings and other committee management activities for both CDC and the Agency for Toxic Substances and Disease Registry.

Dated: October 9, 2003.
Alvin Hall,
Director, Management Analysis and Services Office, Centers for Disease Control and Prevention.

[FR Doc. 03-26270 Filed 10-17-03; 8:45 am]

BILLING CODE 4163-18-P